DEPARTMENT OF HEALTH AND HUMAN SERVICES

Administration for Community Living

Agency Information Collection Activities; Submission for OMB Review; Public Comment Request; State Developmental Disabilities Council—Annual Program Performance Report (PPR) (OMB Control Number 0985-0033)

Correction

In notice document 2021-15025, appearing on page 37337 in the issue of Thursday, July 15, 2021 make the following correction:

On page 37337, in the first column, in the DATES section, on the second and third lines, “August 30, 2021” should read, “August 16, 2021”.

[FR Doc. C1-2021-15025 Filed 7-22-21; 8:45 am]

BILLING CODE 0099-10-D